DEPARTMENT OF THE INTERIOR

Bureau of Land Management

[MT-926-02-1420-BJ]

Montana: Filing of Plat of Survey

AGENCY: Bureau of Land Management, Montana State Office, Interior.

ACTION: Notice.

SUMMARY: The plat of the following described land is scheduled to be officially filed in the Montana State Office, Billings, Montana, thirty (30) days from the date of this publication.

Black Hills Meridian, South Dakota

Tps. 4 S., Rs. 10 and 11 E.

This plat, in 2 sheets, represents the dependent resurvey of portions of the east boundary, the subdivisional lines, and the adjusted original meanders of the left bank of the South Fork of the Cheyenne River through sections 25, 26, 27, and 36 (and section 31, Township 4 South, Range 11 East), the subdivision of section 27, and the survey of lot 7 within section 25, a certain division of accretion line and the new meanders of the left bank of the South Fork of the Cheyenne River through sections 25, 26, 27, and 36 (and section 31, Township 4 South, Range 11 East), in Township 4 South, Ranges 10 and 11 East, Black Hills Meridian, South Dakota, was officially accepted March 29, 2002.

The survey was requested by the U.S. Forest Service, Nebraska National Forest, and was necessary to identify lands administered by the U.S. Forest Service.

A copy of the preceding described plat will be immediately placed in the open files and will be available to the public as a matter of information.

If a protest against this survey, as shown on this plat, is received prior to the date of the official filings, the filings will be stayed pending consideration of the protests.

This particular plat will not be officially filed until the day after all protests have been accepted or dismissed and become final or appeals from the dismissal affirmed.

FOR FURTHER INFORMATION CONTACT: Bureau of Land Management, 5001 Southgate Drive, PO Box 36800, Billings, Montana 59107-6800.

Dated: April 8, 2002.
Thomas M. Deiling,
Chief Cadastral Surveyor, Division of Resources.

[FR Doc. 02-11092 Filed 5-3-02; 8:45 am]

BILLING CODE 4310-DN-P